DEPARTMENT OF HOMELAND SECURITY

Coast Guard

[USCG-2005-21001]

Towing Safety Advisory Committee

AGENCY: Coast Guard, DHS.

ACTION: Notice of meeting.

SUMMARY: The Towing Vessel Inspection Working Group of the Towing Safety Advisory Committee (TSAC) will meet to discuss matters relating to specific issues of towing safety. The meetings will be open to the public.

DATES: The Towing Vessel Inspection Working Group will meet on Wednesday, May 4, 2005 from 1:30 p.m. to 4:30 p.m. and on Thursday, May 5, 2005 from 8:30 a.m. to 2 p.m. The meetings may close early if all business is finished. Written material and requests to make oral presentations should reach the Coast Guard on or before April 27, 2005. Requests to have a copy of your material distributed to each member of the Working Group should reach the Coast Guard on or before April 27, 2005.

ADDRESSES: The Working Group will meet at the Arlington Hilton, 950 North Stafford Street, Arlington, VA 22203. Send written material and requests to make oral presentations to Mr. Gerald Miante, Commandant (G-MSO-1), U.S. Coast Guard Headquarters, 2100 Second Street SW., Washington, DC 20593-0001. This notice and related documents are available on the Internet at http://dms.dot.gov under the docket number USCG-2005-21001.

FOR FURTHER INFORMATION CONTACT: Mr. Gerald Miante, Assistant Executive Director of TSAC, telephone 202-267-0214, fax 202-267-4570, or e-mail gmiante@comdt.uscg.mil.

SUPPLEMENTARY INFORMATION: Notice of these meetings is given under the Federal Advisory Committee Act, 5 U.S.C. App. 2 (Pub. L. 92-463, 86 Stat. 770, as amended).

Agenda of Working Group Meetings

The agenda for the Towing Vessel Inspection Working Group tentatively includes the following items:

(1) Which items should be included in every towing vessel safety management system and should be part of the regulatory requirement defining an acceptable SMS?

(2) Which items should be required as part of the towing vessel inspection regime, but fall into the category of ?standards? or regulation rather than elements of a safety management system?

(3) What, if anything, is missing (either in terms of a safety management system element or standards) that should be required as part of the new towing vessel inspection regime?

Procedural

The meetings are open to the public. Please note that the meetings may close early if all business is finished. At the Chair's discretion, members of the public may make oral presentations during the meeting. If you would like to make an oral presentation at the meeting, please notify the Assistant Executive Director (as provided above in for further information contact) no later than April 27, 2005.

Written material for distribution at the meeting should reach the Coast Guard no later than April 27, 2005.

Information on Services for Individuals with Disabilities

For information on facilities or services for individuals with disabilities or to request special assistance at the meeting, contact Mr. Miante at the number listed in FOR FURTHER INFORMATION CONTACT as soon as possible.

Dated: April 18, 2005.
Howard L. Hime,
Acting Director of Standards Marine Safety, Security and Environmental Protection.

[FR Doc. 05-8069 Filed 4-21-05; 8:45 am]

BILLING CODE 4910-15-P